DEPARTMENT OF ENERGY

Federal Energy Regulatory Commission

[Docket No. CP17-41-001]

Eagle LNG Partners Jacksonville LLC; Notice of Request for Extension of Time

Take notice that on July 29, 2024, Eagle LNG Partners Jacksonville LLC (Eagle LNG) requested that the Commission grant an extension of time, until September 19, 2029, to construct and place into service its Jacksonville Project (Project) located in Jacksonville, Florida as authorized by the Commission in Docket No. CP17-41-000.¹ The Order required Eagle LNG to complete construction of the Project and make it available for service within five years of the date of the Order, or by September 19, 2024.

¹ Eagle LNG Partners Jacksonville LLC, 168 FERC ¶ 61,181 (2019) (Order).

Eagle LNG states that the Jacksonville Project has been impacted substantially by the COVID-19 pandemic, which began only six months after the issuance of the Order. The COVID-19 pandemic created an extremely challenging environment for the negotiation and execution of contracts. Those impediments continued for some time after the effects of the pandemic had begun to subside in 2022.

Eagle LNG affirms that inflation and supply chain issues brought on by the COVID-19 pandemic have increased the total installed cost of the Jacksonville Project from what was forecast when Eagle LNG first submitted the Jacksonville Project application to the Commission. Since many construction companies are focused on larger scale projects, and those willing to take on a more modestly sized project are finding it virtually impossible to hire skilled tradesmen, Eagle LNG has found it difficult to secure the services of a contractor that will devote time to the Jacksonville Project. Eagle LNG anticipates that the construction of the Jacksonville Project will take 24 to 36 months, with construction commencing following a final investment decision to be made. In order to make that final investment decision, Eagle LNG and its investors must be able to conclude that the project's FERC authorization provides enough time to complete construction of the Jacksonville Project. This is the reason why Eagle LNG requests that the FERC construction completion deadline be extended to September 19, 2029.

This notice establishes a 15-calendar day intervention and comment period deadline. Any person wishing to comment on Eagle LNG's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1) (2023).

³ Algonquin Gas Transmission, LLC, 170 FERC ¶ 61,144, at P 40 (2020).

⁴ Id.

⁵ Similarly, the Commission will not re-litigate the issuance of an NGA section 3 authorization, including whether a proposed project is not inconsistent with the public interest and whether the Commission's environmental analysis for the permit order complied with NEPA.

⁶ Algonquin, 170 FERC ¶ 61,144, at P 40.

In addition to publishing the full text of this document in the Federal Register, the Commission provides all interested persons an opportunity to view and/or print the contents of this document via the internet through the Commission's Home Page (https://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at https://www.ferc.gov. In lieu of electronic filing, you may submit a paper copy which must reference the Project docket number.

To file via USPS: Debbie-Anne A. Reese, Acting Secretary, Federal Energy Regulatory Commission, 888 First Street NE, Washington, DC 20426

To file via any other courier: Debbie-Anne A. Reese, Acting Secretary, Federal Energy Regulatory Commission, 12225 Wilkins Avenue, Rockville, Maryland 20852

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on August 20, 2024.

Dated: August 5, 2024.
Debbie-Anne A. Reese,
Acting Secretary.

[FR Doc. 2024-18057 Filed 8-13-24; 8:45 am]

BILLING CODE 6717-01-P